DEPARTMENT OF THE INTERIOR

Fish and Wildlife Service

Recovery Plan for the Newcomb's Snail Erinna newcombi

AGENCY: Fish and Wildlife Service, Interior.

ACTION: Notice of document availability.

SUMMARY: The U.S. Fish and Wildlife Service (“we”) announces the availability of a Recovery Plan for the Newcomb's snail (Erinna newcombi). This aquatic snail is listed as threatened (65 FR 4162) and is endemic to the Hawaiian Island of Kaua`i.

ADDRESSES: Copies of the Recovery Plan are available by request from the U.S. Fish and Wildlife Service, Pacific Islands Fish and Wildlife Office, 300 Ala Moana Boulevard, Room 3-122, Box 50088, Honolulu, Hawaii 96850 (phone 808/792-9400); and the Hawaii State Library, 478 S. King Street, Honolulu, Hawaii 96813. An electronic copy of the recovery plan is available on the world wide Web at: http://endangered.fws.gov/recovery/index.html#plans.

FOR FURTHER INFORMATION CONTACT: Lorena Wada, Invertebrate Program Supervisor, at the above Pacific Islands Fish and Wildlife Office address.

SUPPLEMENTARY INFORMATION:

Background

Restoring endangered or threatened animals and plants to the point where they are again secure, self-sustaining members of their ecosystems is a primary goal of our endangered species program. The Endangered Species Act (16 U.S.C. 1531 et seq.) (Act) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the Act requires that public notice and an opportunity for public review and comment be provided during recovery plan development. In fulfillment of this requirement, the Draft Recovery Plan for the Newcomb's Snail (Erinna newcombi) was available for public comment from March 24, 2004, through May 24, 2004 (69 FR 13868). Information presented during the public comment period has been considered in the preparation of this recovery plan, and is summarized in the appendix to the recovery plan. We will forward substantive comments regarding recovery plan implementation to appropriate Federal or other entities so that they can take these comments into account during the course of implementing recovery actions.

Newcomb's snail is an aquatic snail known to occur at 10 small locations in streams and springs located in 6 watersheds found in the mountainous interior of the Hawaiian Island of Kau'i. Newcomb's snail is a type of freshwater snail belonging to the lymnaeid family of snails. Adult Newcomb's snails are approximately 6 millimeters (0.25 inches) long and 3 millimeters (0.12 inches) wide. Three of the six watersheds containing sites where Newcomb's snails occur are privately owned; the remaining sites are located on State of Hawaii lands.

Some of the historical decline of the snail may be attributed to habitat loss and degradation through water diversion and well drilling. In addition, predation by alien species, natural disasters, and habitat alteration are threats that imperil the Newcomb's snail. Presently, Newcomb's snail faces an increased likelihood of extinction from naturally occurring events due to the small number of remaining populations and their limited distribution. Significant habitat destruction through reduction or elimination of stream or spring flow could destroy an entire population of Newcomb's snail, and natural disasters such as hurricanes or catastrophic landslides could also destroy vital habitat.

The objective of this recovery plan is to ensure the long-term conservation, recovery, and eventual delisting of the species. This recovery will be accomplished through a variety of recovery actions including: (1) Conducting research on the population biology and life history of the Newcomb's snail; (2) analysis and potential prevention of predation and other forms of negative interspecific interactions that may limit or reduce Newcomb's snail populations; (3) assurance of adequate stream and spring flows to protect known and potential Newcomb's snail habitat; (4) making recovery of Newcomb's snail a part of other landscape conservation efforts, such as preservation of the structure and function of upland forests that maintain and regulate surface run-off to streams and act as areas of infiltration for ground water; (5) using initial recovery efforts and research to periodically validate recovery objectives; and (6) providing educational informational opportunities to build public support for conservation.

Authority

The authority for this action is section 4(f) of the Endangered Species Act, 16 U.S.C. 1533(f).

Dated: May 4, 2006.
David J. Wesley,
Acting Regional Director, Region 1, U.S. Fish and Wildlife Service.

[FR Doc. E6-15438 Filed 9-15-06; 8:45 am]

BILLING CODE 4310-55-P